FEDERAL EMERGENCY MANAGEMENT AGENCY

44 CFR Part 67

Final Flood Elevation Determinations

AGENCY: Federal Emergency Management Agency (FEMA).

ACTION: Final rule.

SUMMARY: Base (1% annual chance) flood elevations and modified base flood elevations are made final for the communities listed below. The base flood elevations and modified base flood elevations are the basis for the floodplain management measures that each community is required either to adopt or to show evidence of being already in effect in order to qualify or remain qualified for participation in the National Flood Insurance Program (NFIP).

EFFECTIVE DATES: The date of issuance of the Flood Insurance Rate Map (FIRM) showing base flood elevations and modified base flood elevations for each community. This date may be obtained by contacting the office where the maps are available for inspection as indicated on the table below.

ADDRESSES: The final base flood elevations for each community are available for inspection at the office of the Chief Executive Officer of each community. The respective addresses are listed in the table below.

FOR FURTHER INFORMATION CONTACT: Michael M. Grimm, Acting Chief, Hazard Study Branch, Federal Insurance and Mitigation Administration, Federal Emergency Management Agency, 500 C Street SW., Washington, DC 20472, (202) 646-3461, or (email) mike.grimm@fema.gov.

SUPPLEMENTARY INFORMATION: The Federal Emergency Management Agency (FEMA or Agency) makes final determinations listed below of base flood elevations and modified base flood elevations for each community listed. The proposed base flood elevations and proposed modified base flood elevations were published in newspapers of local circulation and an opportunity for the community or individuals to appeal the proposed determinations to or through the community was provided for a period of ninety (90) days. The proposed base flood elevations and proposed modified base flood elevations were also published in the Federal Register.

This final rule is issued in accordance with Section 110 of the Flood Disaster Protection Act of 1973, 42 U.S.C. 4104, and 44 CFR part 67.

The Agency has developed criteria for floodplain management in floodprone areas in accordance with 44 CFR part 60.

Interested lessees and owners of real property are encouraged to review the proof Flood Insurance Study and Flood Insurance Rate Map available at the address cited below for each community.

The base flood elevations and modified base flood elevations are made final in the communities listed below. Elevations at selected locations in each community are shown.

National Environmental Policy Act. This rule is categorically excluded from the requirements of 44 CFR part 10, Environmental Consideration. No environmental impact assessment has been prepared.

Regulatory Flexibility Act. The Administrator, Federal Insurance and Mitigation Administration, certifies that this rule is exempt from the requirements of the Regulatory Flexibility Act because final or modified base flood elevations are required by the Flood Disaster Protection Act of 1973, 42 U.S.C. 4104, and are required to establish and maintain community eligibility in the NFIP. No regulatory flexibility analysis has been prepared.

Regulatory Classification. This final rule is not a significant regulatory action under the criteria of Section 3(f) of Executive Order 12866 of September 30, 1993, Regulatory Planning and Review, 58 FR 51735.

Executive Order 12612, Federalism. This rule involves no policies that have federalism implications under Executive Order 12612, Federalism, dated October 26, 1987.

Executive Order 12778, Civil Justice Reform. This rule meets the applicable standards of Section 2(b)(2) of Executive Order 12778.

List of Subjects in 44 CFR Part 67

Administrative practice and procedure, flood insurance, reporting and recordkeeping requirements.

Accordingly, 44 CFR Part 67 is amended as follows:

PART 67—[AMENDED]

1. The authority citation for Part 67 continues to read as follows:

Authority: 42 U.S.C. 4001 et seq.; Reorganization Plan No. 3 of 1978, 3 CFR, 1978 Comp., p. 329; E.O. 12127, 44 FR 19367, 3 CFR, 1979 Comp., p. 376.

§ 67.11 [Amended]

2. The tables published under the authority of § 67.11 are amended as follows:

Source of Flooding and Location | #Depth in feet above ground. ÷Elevation in feet (NGVD) •Elevation in feet (NAVD)
DELAWARE
Kent County (Unincorporated Areas) (FEMA Docket No. D-7536)
Andrews Lake:
Approximately 1,525 feet downstream of Andrews Lake Road | *9
Approximately 1.25 miles upstream of Andrews Lake Road | *22
Kent County (Unincorporated Areas)
Beaverdam Ditch:
At confluence with Tidy Island Creek | *46
Approximately 90 feet upstream of Taraila Road | *57
Kent County (Unincorporated Areas)
Browns Branch North:
At the downstream side of the northbound lane of U.S. Route 13 | *42
At the downstream side of the southbound lane of U.S. Route 13 | *43
Kent County (Unincorporated Areas)
Browns Branch South:
At Route 431 | *41
Approximately 1.04 miles upstream of Route 431 | *48
Kent County (Unincorporated Areas), City of Dover
Cahoon Branch:
At confluence with Maidstone Branch | *32
Approximately 50 feet downstream of Navit Road | *58
Kent County (Unincorporated Areas)
Choptank River:
Approximately 1.33 miles downstream of Still Road | *22
Approximately 0.5 mile upstream of confluence of Culbreth Marsh Ditch | *37
Kent County (Unincorporated Areas)
Coursey Pond:
Approximately 1,030 feet downstream of Canterbury Road | *9
Approximately 1.3 miles upstream of Canterbury Road | *13
Kent County (Unincorporated Areas)
Cow Marsh Creek:
At confluence with Choptank River | *26
At confluence of Willow Grove Prong | *51
Culbreth Marsh Ditch:
At confluence with Choptank River | *37
Approximately 300 feet upstream of Lucks Drive | *49
Kent County (Unincorporated Areas), Town of Smyrna, Town of Leipsic, City of Milford, City of Dover, Town of Frederica, Town of Boweres, Town of Little Creek
Delaware Bay:
At intersection of Big Stone Beach Road and Scotts Corner Road | *9
Approximately 375 feet north of intersection of North Street and Pearson Avenue Bowers, Woodland Beach | *13
Kent County (Unincorporated Areas), Town of Smyrna, Town of Clayton
Duck Creek:
Approximately 1,660 feet downstream of Smyrna Landing Road | *9
Approximately 300 feet upstream of State Route 15 | *29
Kent County (Unincorporated Areas), City of Dover
Fork Branch:
At confluence with St. Jones River | *27
Approximately 100 feet upstream of Shaws Corner Road | *64
Kent County (Unincorporated Areas)
Green Branch:
At confluence with Marshyhope Creek | *41
Approximately 1,200 feet upstream of Layton Corners Road | *56
Kent County (Unincorporated Areas), Town of Smyrna
Green's Branch:
Approximately 500 feet downstream of Main Street | *9
At CONRAIL | *27
Kent County (Unincorporated Areas)
Horsepen Arm:
At confluence with Marshyhope Creek | *54
Approximately 650 feet upstream of Park Brown Road | *58
Kent County (Unincorporated Areas), City of Dover
Little River:
Just downstream of State Route 8 | *9
Approximately 0.7 mile upstream of West Wind Drive | *25
Kent County (Unincorporated Areas), City of Dover
Maidstone Branch:
At the confluence with St. Jones River | *27
Approximately 750 feet upstream of Sharon Hill Road | *49
| Kent County (Unincorporated Areas)
Marshyhope Creek:
At the downstream county boundary | *35
At the confluence of Horsepen Arm | *54
Kent County (Unincorporated Areas)
Marshyhope Ditch:
At the confluence with Marshyhope Creek | *54
Approximately 500 feet upstream of Park Brown Road | *56
Kent County (Unincorporated Areas)
McColley Pond:
Approximately 1,325 feet downstream of Canterbury Road | *9
Approximately 1.4 miles upstream of Canterbury Road | *12
Kent County (Unincorporated Areas)
McGinnis Pond:
Approximately 1,125 feet downstream of McGinnis Pond Road | *9
Approximately 1.0 mile upstream of McGinnis Pond | *20
Kent County (Unincorporated Areas), Town of Smyrna
Mill Creek:
At U.S. Route 13 | *9
At State Route 137 | *17
Kent County (Unincorporated Areas), City of Dover
Morgan Branch:
Approximately 0.4 mile upstream of the confluence with Little River | *10
Approximately 1.5 miles upstream of Little Creek Road | *17
Kent County (Unincorporated Areas)
Penrose Branch:
Approximately 750 feet upstream of Sharon Hill Road | *49
Approximately 1.9 miles upstream of Pearsons Corner Road | *66
Kent County (Unincorporated Areas), Town of Clayton
Providence Creek:
Approximately 300 feet upstream of U.S. Route 15 | *29
Approximately 300 feet upstream of Alley Mill Road | *43
Kent County (Unincorporated Areas), City of Dover
Puncheon Branch:
Approximately 0.5 mile downstream of U.S. Route 113A | *9
Approximately 900 feet downstream of U.S. Route 113A | *9
Kent County (Unincorporated Areas), City of Dover
St. Jones River:
Approximately 1,170 feet downstream of Court Street | *10
Approximately 1.11 miles upstream of West College Square | *27
Kent County (Unincorporated Areas)
Tappahanna Ditch:
At the confluence with Tidy Island Creek | *46
Approximately 200 feet upstream of U.S. Route 8 | *64
Kent County (Unincorporated Areas), City of Milford
Tantrough Branch:
At City of Milford corporate limits | *15
Approximately 0.62 mile upstream of Blairs Pond Dam | *34
Kent County (Unincorporated Areas)
Tidy Island Creek:
Approximately 3,300 feet downstream of Mahan Corner Road | *44
At the confluence of Beaverdam Ditch and Tappahanna Ditch | *46
Kent County (Unincorporated Areas)
Willow Grove Prong:
At confluence with Cow Marsh Creek | *51
Approximately 850 feet upstream of Honeysuckle Road | *57
Kent County (Unincorporated Areas)
Maps available for inspection at the Kent County Planning Division, 414 Federal Street, Dover, Delaware.
Town of Bowers
Maps available for inspection at the North Bowers Fire Hall, Rural Drive #1 Bowers, Frederica, Delaware.
Town of Clayton
Maps available for inspection at the Clayton Town Hall, 105 Main Street, Clayton, Delaware.
City of Dover
Maps available for inspection at the Dover City Hall, 15 East Lockerman Street, Dover, Delaware.
Town of Frederica
Maps available for inspection at the Frederica Town Hall, David Street, Frederica, Delaware.
Town of Leipsic
Maps available for inspection at Leipsic Town Hall, 192 Front Street, Leipsic, Delaware.
Town of Little Creek
Maps available for inspection at the Little Creek Town Hall, 204 Main Street, Little Creek, Delaware.
City of Milford
Maps available for inspection at the Milford City Hall, 201 South Walnut Street, Milford, Delaware.
Town of Smyrna
Maps available for inspection at the Smyrna Town Hall, 27 South Market Street, Plaza, Smyrna, Delaware.
FLORIDA
Charlotte County (Unincorporated Areas) (FEMA Docket No. D-7530)
Auburn Waterway:
At the confluence with Pellam Waterway | *8
At Hillsborough Boulevard | *12
Broad Creek:
At the upstream side of Copley Drive | *9
Approximately 1 mile upstream of Airport Road | *12
Broad Creek Tributary:
At the confluence with Broad Creek | *10
Just upstream of Piper Road | *23
Courtland Waterway:
At the confluence with Auburn Waterway | *8
At Hillsborough Boulevard | *13
Crestview-Lionheart Connector Waterway:
At the confluence with Crestview Waterway | *16
At divergence from Lionheart Waterway | *16
Crestview Waterway:
At the confluence with West Spring Lake | *9
At Hillsborough Boulevard | *16
Delavan Waterway:
At the confluence with Fordham Waterway | *21
Approximately 475 feet upstream of Comstock Boulevard | *21
Elkcam Waterway:
Approximately 1,900 feet upstream of U.S. Route 41 | *9
Approximately 1.2 miles upstream of Peachland Boulevard | *19
Fordham Waterway:
Approximately 1,750 feet upstream of U.S. Route 41 | *9
Approximately 1.0 mile upstream of Peachland Boulevard | *21
Kings Highway East Outfall:
At the downstream side of Westchester Boulevard | *9
Approximately 780 feet upstream of Suncoast Boulevard | *13
Kings Highway West Outfall:
Approximately 150 feet upstream of Westchester Boulevard | *10
Approximately 1,080 feet upstream of MacDougall Avenue | *16
Lionheart Waterway:
At the county boundary | *19
Approximately 170 feet upstream of U.S. Route 41 | *9
Newgate Waterway:
Approximately 1.2 miles upstream of the confluence with Early Waterway | *8
Approximately 2.2 miles upstream of Jenning's Boulevard | *10
Niagara Waterway:
At the confluence with Fordham Waterway | *9
At Peachland Boulevard | *19
Pellam Waterway:
Approximately 2.1 miles upstream of Holly Avenue | *8
At Hillsborough Boulevard | *14
Pelton Circle Waterway:
At the confluence with Crestview Waterway | *16
Approximately 0.5 mile upstream of confluence with Crestview Waterway | *16
Rampart Outfall:
Approximately 0.3 mile upstream of Harborview Road | *9
Just upstream of Rampart Boulevard | *22
Sunset Waterway:
At the confluence with Lionheart Waterway | *13
At the County boundary | *20
Yale Waterway:
At the confluence with Fordham Waterway | *13
Approximately 475 feet upstream of Sheehan Boulevard | *14
Gulf of Mexico:
Approximately 1,200 feet southwest of the intersection of Gulf Boulevard and South Gulf Boulevard | *16
Approximately 200 feet east of the intersection of County Route 775 and Cap Haza Drive | *10
Charlotte County (Unincorporated Areas)
Maps available for inspection at the Charlotte County Community Development Department, Charlotte County Administration Building, 18500 Murdock Circle, Port Charlotte, Florida.
PENNSYLVANIA
Allegheny County (All Jurisdictions)
Borough of Crafton, Township of Robinson, Borough of Rosslyn Farms, and Borough of Thornburg (FEMA Docket No. D-7536)
Chartiers Creek:
At the upstream side of Ingram Avenue | *748
Approximately 300 feet downstream of Chartiers Avenue | *754
Borough of Crafton
Maps available for inspection at the Crafton Borough Hall, 100 Stotz Avenue, Pittsburgh, Pennsylvania.
Township of Robinson
Maps available for inspection at Robinson Township Municipal Building, 1000 Church Hill Road, Pittsburgh, Pennsylvania.
Borough of Rosslyn Farms
Maps available for inspection at Rosslyn Farms Borough Municipal Office, 421 Kings Highway, Carnegie, Pennsylvania.
Borough of Thornburg
Maps available for inspection at the Thornburg Borough Office, 235 Tech Road, Pittsburgh, Pennsylvania.

(Catalog of Federal Domestic Assistance No. 83.100, “Flood Insurance.”)
Dated: December 31, 2002.
Anthony S. Lowe,
Administrator, Federal Insurance and Mitigation Administration.

[FR Doc. 03-606 Filed 1-10-03; 8:45 am]

BILLING CODE 6718-04-P